DEPARTMENT OF TRANSPORTATION

Federal Aviation Administration

Proposed Revision to the Santa Ana Class C Airspace Area, CA; Public Meeting

AGENCY: Federal Aviation Administration (FAA), DOT.

ACTION: Notice of public meeting.

SUMMARY: This notice announces a fact-finding informal airspace meeting to solicit information from airspace users, and others, concerning proposals to revise the Class C airspace area at John Wayne Airport/Orange County, CA. The purpose of this meeting is to provide interested parties an opportunity to present views, recommendations, and comments on this proposal. All comments received during the meeting will be considered prior to any revision or issuance of a notice of proposed rulemaking.

Times and Dates: The informal airspace meeting will be held on Wednesday, March 28, 2001, from 6:30 p.m. to 9 p.m. Comments must be received on or before May 15, 2001.

Place: The meeting will be held at Los Alamitos Army Air Field in the Base Theater (Building 4411) main auditorium. Directions: From Katella Avenue, gain access to the base via the Main Gate located on Lexington Drive. Proceed straight on Lexington Drive to Minuteman Circle. Minuteman Circle is not marked with a conventional street sign, but is easily identifiable by an Army tank on the right side and a helicopter on the left side. These two monuments are where Lexington Drive splits into the right/left loops of Minuteman Circle. Bear to the right on Minuteman Circle to Yorktown Avenue and turn right. Building 4411 is the first building on the right. Park adjacent to the theater or across Yorktown Avenue.

Comments: Send or deliver comments on the proposal in triplicate to: Manager, Air Traffic Division, AWP-500, Federal Aviation Administration, P.O. Box 92007, Worldway Postal Center, Los Angeles, CA 90009.

FOR FURTHER INFORMATION CONTACT: Debra Trindle, Air Traffic Division, AWP-520, FAA, Western-Pacific Regional Office, telephone (310) 725-6613.

SUPPLEMENTARY INFORMATION:

Meeting Procedures

(a) This meeting will be informal in nature and will be conducted by one or more representatives of the FAA Western-Pacific Region. A representative from the FAA will present a briefing on the proposed airspace classification changes. Each participant will be given an opportunity to deliver comments or make a presentation. Only comments concerning the proposed Class C airspace area revision will be accepted.

(b) The meeting will be open to all persons on a space-available basis. There will be no admission fee or other charge to attend and participate.

(c) Any person wishing to make a presentation to the FAA panel will be asked to sign in and estimate the amount of time needed for such presentation. This will permit the panel to allocate an appropriate amount of time for each presenter.

(d) The meeting will not be adjourned until everyone on the list has had an opportunity to address the panel.

(e) Position papers or other handout material relating to the substance of the meeting will be accepted. Participants wishing to submit handout material should present three copies to the presiding officer. There should be additional copies of each handout available for other attendees.

(f) The meetings will not be formally recorded. However, a summary of the comments made at the meeting will be filed in the docket.

Agenda for the Meeting

Opening Remarks and Discussion of Meeting Procedures.

Briefing on Background for the Proposal.

Public Presentations.

Closing Comments.

Issued in Washington, DC, on February 22, 2001.
Avis Person,
Acting Manager, Airspace and Rules Division.

[FR Doc. 01-5024 Filed 3-1-01; 8:45 am]

BILLING CODE 4910-13-U